DEPARTMENT OF HOMELAND SECURITY

Transportation Security Administration

New Agency Information Collection Activity Under OMB Review: Exercise Information System (EXIS)

AGENCY: Transportation Security Administration, DHS.

ACTION: 30-day notice.

SUMMARY: This notice announces that the Transportation Security Administration (TSA) has forwarded the new Information Collection Request (ICR) abstracted below to the Office of Management and Budget (OMB) for review and approval under the Paperwork Reduction Act (PRA). The ICR describes the nature of the information collection and its expected burden. TSA published a Federal Register notice, with a 60-day comment period soliciting comments, of the following collection of information on January 6, 2011 (76 FR 792). The ICR describes the nature of the information collection and its expected burden for the TSA Exercise Information System (EXIS). EXIS is a web portal designed to serve stakeholders in the transportation industry by providing transportation stakeholders with an online tool to generate security exercises based on the unique needs of their specific transportation mode or method of operation. It provides stakeholders with exercise information tailored to the transportation industry, best practices, and lessons learned based on experience for use in future exercises. Utilizing and inputting information into EXIS is completely voluntary.

DATES: Send your comments by January 18, 2012. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Joanna Johnson, TSA PRA Officer, Office of Information Technology (OIT), TSA-11, Transportation Security Administration, 601 South 12th Street, Arlington, VA 20598-6011; telephone (571) 227-3651; email TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Comments Received

Pursuant to 5 CFR 1320.8(d), TSA published a 60-day notice soliciting comments from persons outside of the agency regarding the data collection procedures of EXIS. This notice was published on January 6, 2011 (76 FR 792). TSA received two comments. The first comment was from a contractor in the Infrastructure Protection Disaster Management Division of the Science and Technology Directorate at DHS. This comment sought more information regarding the program manager of EXIS and program manager role/capabilities in exercise training. TSA responded by referring the commentator to the appropriate EXIS personnel for further detail on the EXIS program manager role. The second comment came from a transportation security inspector in South Carolina seeking more information on the capabilities of EXIS. TSA responded by electronically sending the commentator an EXIS information brochure and referring the commentator to the EXIS email address for any additional questions. To our knowledge, no additional comments have been received.

Information Collection Requirement

Title: Exercise Information System (EXIS).

Type of Request: New collection.

OMB Control Number: Not yet assigned.

Form(s): N/A.

Affected Public: Interested transportation owners and operators with security interests and responsibilities.

Abstract: The Exercise Information System (EXIS) is an Internet-accessible knowledge-management system developed by TSA serving stakeholders—industry, port authorities, Federal agencies, and State and local governments—and integrating other security-related training and exercise components. Because EXIS may contain Sensitive Security Information (SSI),¹ the system meets the requirements for an SSI-level system. EXIS gives stakeholders valuable exercise information tailored to the transportation industry, best practices, and lessons learned based on experience for use in future exercises. Transportation industry stakeholders can choose scenarios and objectives based on their particular needs, such as their transportation modes, or their regulated areas of operation. EXIS is a data management system that provides end-to-end security exercise support, from the initial planning meeting, through exercise design, implementation, evaluation, and reporting.

¹ See 49 U.S.C. 114(s); 49 CFR part 1520.

TSA will use this information to assess and improve the capabilities of all surface transportation modes to prevent, prepare for, mitigate against, respond to, and recover from transportation security incidents. A failure to collect this information will limit TSA's ability to effectively test security countermeasures, security plans, and the ability of a modal operator to respond to and quickly recover after a transportation security incident. Insufficient awareness, prevention, response, and recovery to a transportation security incident will result in increased vulnerability of the U.S. transportation network and a reduced ability of DHS to assess system readiness.

Since the system has not been released to the public yet, it is difficult to determine the amount of volume that will be generated from its release. Based on industry population estimates and industry growth rates transportation modes prior to EXIS release to the public, TSA estimates that there will be approximately 336,000 users within the first three years of the system's use. TSA estimates users will spend approximately 7 hours per EXIS user inputting the information described above.

Number of Respondents: 112,109.

Estimated Annual Burden Hours: An estimated 392,385 hours annually.

Issued in Arlington, Virginia, on December 13, 2011.

Joanna Johnson,
TSA Paperwork Reduction Act Officer, Office of Information Technology.

[FR Doc. 2011-32360 Filed 12-16-11; 8:45 am]

BILLING CODE 9110-05-P